DEPARTMENT OF DEFENSE

Office of the Secretary

Submission for OMB Review; Comment Request

AGENCY: Notice.

The Department of Defense has submitted to OMB for clearance, the following proposal for collection of information under the provisions of the Paperwork Reduction Act (44 U.S.C. Chapter 35).

DATES: Consideration will be given to all comments received by October 8, 2004.

Title, Form, and OMB Number: National Security Education Program (Service Agreement Report for Scholarship and Fellowship Awards); DD Form 2572, National Security Education Program (NSEP) Service Agreement for Scholarship and Fellowship Awards, and DD Form 2573, National Security Education Program (NSEP) Service Agreement Report (SAR) for Scholarship and Fellowship Awards; OMB control number 0704-0368.

Type of Request: Reinstatement.

Number of Respondents: 300.

Responses Per Respondent: 2.

Annual Responses: 600.

Average Burden Per Response: 30 minutes.

Annual Burden Hours: 300.

Needs and Uses: This information collection requirement is necessary to obtain verification that applicable scholarship and fellowship recipients are fulfilling service obligations mandated by the David L. Boren National Security Education Act of 1991, Title VIII of Public Law 102-183, as amended.

Affected Public: Individuals or households; Federal Government agencies.

Frequency: Semi-annually.

Respondent's Obligation: Mandatory.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Mr. Robert Cushing.

Written requests for copies of the information collection proposal should be sent to Mr. Cushing, WHS/ESCD/Information Management Division, 1225 South Clark Street, Suite 504, Arlington VA 22202-4326.

Dated: August 31, 2004.
Patricia L. Toppings,
Alternate OSD Federal Register Liaison Officer, Department of Defense.

[FR Doc. 04-20316 Filed 9-7-04; 8:45 am]

BILLING CODE 5001-06-M